ENVIRONMENTAL PROTECTION AGENCY

[FRL-7119-7]

Proposed Reissuance of General NPDES Permit (GP) for Alaskan Small Suction Dredging (Permit Number AKG-37-5000)

AGENCY: Environmental Protection Agency.

ACTION: Notice of proposed reissuance of a general permit.

SUMMARY: This general permit was originally effective on April 7, 1997, and expires on April 9, 2002. EPA proposes to reissue this general permit with minor changes based on updated information relating to the impact of such mining activity on the environment. EPA is proposing to automatically extend coverage under this general permit, when final, to those facilities covered by the previous permit which submit a Notice of Intent (NOI) prior to April 9, 2002.

DATES: Interested persons may submit comments on the proposed reissuance of the GP to EPA, Region 10 at the address below. Comments must be received by February 4, 2002.

ADDRESSES: Comments on the proposed General Permit should be sent to Director, Office of Water; USEPA Region 10; 1200 Sixth Avenue, OW-135; Seattle, Washington 98101.

FOR FURTHER INFORMATION CONTACT: Copies of the Proposed General Permit and Fact Sheet are available upon request. Requests may be made to Audrey Washington at (206) 553-0523 or to Cindi Godsey at (907) 271-6561 or electronically mailed to: washington.audrey@epa.gov or godsey.cindi@epa.gov. These documents may be found on the Region 10 Web site at www.epa.gov/r10earth/water.htm.

SUPPLEMENTARY INFORMATION: Executive Order 12866: The Office of Management and Budget has exempted this action from the review requirements of Executive Order 12866 pursuant to Section 6 of that order.

Regulatory Flexibility Act: EPA has concluded that General NPDES permits are permits under the Administrative Procedure Act (APA), 5 U.S.C. 551 et seq., and thus not subject to APA rulemaking requirements or the Regulatory Flexibility Act.

Dated: December 5, 2001.
Randall F. Smith,
Director, Office of Water, Region 10, Environmental Protection Agency.

[FR Doc. 01-31240 Filed 12-18-01; 8:45 am]

BILLING CODE 6560-50-P